COMMITTEE FOR PURCHASE FROM PEOPLE WHO ARE BLIND OR SEVERELY DISABLED

Procurement List; Proposed Deletions

AGENCY: Committee for Purchase From People Who Are Blind or Severely Disabled.

ACTION: Proposed Deletions from the Procurement List.

SUMMARY: The Committee is proposing to delete services from the Procurement List that was previously furnished by nonprofit agencies employing persons who are blind or have other severe disabilities.

DATES: Comments must be received on or before: September 2, 2018.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following services are proposed for deletion from the Procurement List:

Services

Service Type: Janitorial/Custodial Service.

Mandatory for: Veterans Affairs Medical Center: Outpatient Clinic Pensacola, FL.

Mandatory Source(s) of Supply: Lakeview Center, Inc., Pensacola, FL.

Contracting Activity: DEPARTMENT OF VETERANS AFFAIRS, NAC.

Service Type: Janitorial Service.

Mandatory for: Customs and Border Protection, B.P. Maintenance 398 E. Aurora Drive, El Centro, CA.

Mandatory Source(s) of Supply: ARC-Imperial Valley, El Centro, CA.

Contracting Activity: U.S. Customs and Border Protection, Border Enforcement Contracting Division.

Service Type: Food Service.

Mandatory for: Michigan Army National Guard: Maneuver Training Center, Building 426MA, Camp Grayling, MI.

Mandatory Source(s) of Supply: G.W. Services of Northern Michigan, Inc., Traverse City, MI.

Contracting Activity: Dept of the Army, W7NF USPFO ACTIVITY MI ARNG.

Service Type: Janitorial/Custodial Service.

Mandatory for: Naval Reserve Center: 85 Sea Street, Quincy, MA.

Mandatory Source(s) of Supply: Community Workshops, Inc., Boston, MA.

Contracting Activity: Dept of the Navy, Navy Crane Center.

Service Type: Administrative Service.

Mandatory for: Fleet and Industrial Supply Center, 937 North Harbor Drive, San Diego, CA.

Mandatory Source of Supply: Unknown.

Contracting Activity: Dept of the Navy, US Fleet Forces Command.

Service Type: Janitorial Service.

Mandatory for: U.S. Army Reserve Center: 2201 Laurens Road, Center #1, Greenville, SC.

Mandatory Source(s) of Supply: SC Vocations & Individual Advancement, Inc., Greenville, SC.

Contracting Activity: Dept of the Army, W074 ENDIST CHARLESTON.

Service Type: Grounds Maintenance Service.

Mandatory for: US Army Corps of Engineers, Gallagher Memorial USARC, 1300 West Brown Road, Las Cruces, NM.

Mandatory Source of Supply: Let's Go To Work, El Paso, TX.

Contracting Activity: Dept of the Army, W075 ENDIST SACRAMENTO.

Service Type: Janitorial/Custodial Service.

Mandatory for: US Army Reserve, Charles W. Whittlesey USARC.

200 Barker Road, Pittsfield, MA.

Mandatory Source(s) of Supply: Berkshire County Association for Retarded Citizens, Inc., Pittsfield, MA.

Contracting Activity: Dept of the Army, W6QK ACC-PICA.

Service Type: Janitorial/Custodial Service.

Mandatory for: Port Hueneme Naval Construction Battalion Center: Navy Family Housing Units, Port Hueneme, CA.

Mandatory Source(s) of Supply: Unknown.

Contracting Activity: Dept of the Navy, US Fleet Forces Command.

Service Type: Custodial Service.

Mandatory for: Pentagon Building: Washington, DC, Federal Building #2, Food Court.

Common area stairs and (plus): Corridors, 1st Floor, 2nd Floor, 3rd Floor.

Au Bon Pain, B.C Café, Common area restrooms, Corridor 1 Food Court, Corridor 10 Food Court, Corridor 9/10 Apex, Five Star Expresso Coffee Bar, Five Star Expresso Coffee Bar, Federal Bldg #2, Grease and Garbage Room, Loading dock, 1st Floor, Wedge 1, Pentagon Dining Room and Kitchen, Production Kitchen, Wedge 1 Food Court.

Mandatory Source(s) of Supply: The Chimes, Inc., Baltimore, MD.

Contracting Activity: Dept of the Navy, US Fleet Forces Command.

Service Type: Recycling Service.

Mandatory for: Crane Division, Naval Surface Warfare Center: 300 HWY 361, Crane, IN.

Mandatory Source(s) of Supply: Orange County Rehabilitative and Developmental Services, Inc., Paoli, IN.

Contracting Activity: Dept of the Navy, NSWC Crane.

Service Type: Janitorial/Grounds Maintenance Service.

Mandatory for: Federal Aviation Administration Air Traffic: JFK International Airport, Control Towers, Jamaica, NY.

Mandatory Source of Supply: Fedcap Rehabilitation Services, Inc., New York, NY.

Contracting Activity: Federal Aviation Administration, FAA.

Michael R. Jurkowski,
Business Management Specialist, Business Operations.

[FR Doc. 2018-16642 Filed 8-2-18; 8:45 am]

BILLING CODE 6353-01-P